INTERNATIONAL TRADE COMMISSION

Notice of Commission Decision To Waive Requirements in its Rules Regarding the Number of Copies of Complaints, Motions for Temporary Relief, Requests or Petitions for Ancillary Proceedings, and Exhibits Filed in Proceedings Under Section 337 of the Tariff Act of 1930

AGENCY: U.S. International Trade Commission.

ACTION: Notice.

SUMMARY: Notice is hereby given that the U.S. International Trade Commission has determined to waive the requirements set forth in its rules regarding the number of copies of complaints, motions for temporary relief, and requests or petitions for ancillary proceedings that must be filed with the Commission in a section 337 investigation, and to require that twelve (12), rather than fourteen (14), copies of those submissions be filed. In addition, the Commission has waived the requirements in its rules regarding the number of sets of exhibits associated with the foregoing pleadings that must be filed in a section 337 investigation, and to require that six (6), rather than fourteen (14), copies of those sets of exhibits be filed with the Commission.

FOR FURTHER INFORMATION CONTACT: Irene H. Chen, Esq., Office of the General Counsel, U.S. International Trade Commission, 500 E Street, SW., Washington, DC 20436, telephone (202) 205-3112. Hearing-impaired persons are advised that information on this matter can be obtained by contacting the Commission's TDD terminal on (202) 205-1810. General information concerning the Commission may also be obtained by accessing its Internet server (http://www.usitc.gov). The public record for section 337 investigations may be viewed on the Commission's electronic docket (EDIS-ON-LINE) at http://dockets.usitc.gov/eol/public.

SUPPLEMENTARY INFORMATION: The Commission made this determination after adopting the recommendations of a “Section 337 Paperwork Reduction Working Group” (hereinafter called the “Paperwork Reduction Group”) which was established by the Commission at the request of the Chairman to identify documents filed by parties in investigations conducted pursuant to Section 337 of the Tariff Act of 1930, 19 U.S.C. 1337, that do not need to be circulated among members of the Commission and to propose changes necessary to carry out those recommendations. The Paperwork Reduction Group recommended to the Commission that the number of copies of complaints, motions for temporary relief, and requests or petitions for ancillary relief (hereinafter collectively called “complaints”) required to be filed with the Commission should be reduced from 14 copies to 12 copies because two of the 14 copies now being filed are not needed by the Commission. The Commission also adopted the recommendation of the Paperwork Reduction Group that the sets of exhibits attached to complaints no longer need to be circulated among the Commissioners in paper form. The Commission recognized that all of the corresponding exhibits filed with complaints are readily available to Commissioners on EDIS in electronic format.

Consequently, the Commission determined to waive the requirements set forth in sections 210.4(f)(2) and 210.8(a) of the Commission's rules of practice and procedure (19 CFR 210.4(f)(2) and 19 CFR 210.8(a)) that 14 copies of confidential and nonconfidential complaints, motions for temporary relief, requests or petitions for ancillary relief, and sets of exhibits must be filed with the Commission in section 337 investigations pending before the Commission. Instead, the Commission will now accept for filing 12 copies of confidential and nonconfidential versions of complaints, motions for temporary relief, and requests or petitions for ancillary relief filed by a party in a section 337 investigation. In addition, the Commission will now accept for filing six copies of the sets of exhibits that are filed with confidential and nonconfidential versions of complaints, motions for temporary relief, and requests for ancillary proceedings by a party in section 337 investigations. The foregoing waiver does not alter the provision in section 210.8 of the rules requiring the filing of additional copies for each party and foreign country named in complaints or supplemental complaints filed with the Commission.

The authority for this waiver is contained in section 201.4(b) of the Commission's rules of practice and procedure (19 CFR 201.4(b)).

Issued: November 16, 2001.
By order of the Commission.
Donna R. Koehnke,
Secretary.

[FR Doc. 01-29149 Filed 11-20-01; 8:45 am]

BILLING CODE 7020-02-P